DEPARTMENT OF DEFENSE

Department of the Army

Privacy Act of 1974; System of Records

AGENCY: Department of the Army, DoD.

ACTION: Notice to Alter a System of Records; A0735 SAIS-SF Library Borrowers'/Users' Profile Files.

SUMMARY: The Department of the Army proposes to alter a system of records notice in its inventory of records systems subject to the Privacy Act of 1974,(5 U.S.C. 552a), as amended.

DATES: This proposed action will be effective without further notice on September 2, 2005 unless comments are received which result in a contrary determination.

ADDRESSES: Send comments to Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 27, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 28, 2005.
Jeanette Owings-Ballard,
Federal Register Liaison Officer, Department of Defense.

A0735 SAIS-SF

System name:

Library Borrowers'/Users' Profile Files (February 22, 1993, 58 FR 10002)

Changes:

System identifier:

Delete entry and replace with “A0215-1 DAPE'

* * * * *

Categories of records in the system

Add to entry: rank, date of birth, and email address.

Authority for maintenance of the system

Add to entry “10 U.S.C. 3013, Secretary of the Army; Pub. L. 106-554, Children's Internet Protection Act; AR 215-1, Morale, Welfare, and Recreation Activities and Nonappropriated Fund Instrumentalities'

Purpose(s)

Add to entry “To comply with the Children's” Internet Protection Act and to provide authentication for borrowed electronic resources (e.g., e-books, e-journals).”

* * * * *

Storage:

Delete entry and replace with “Paper in file folders; card files; and electronic storage media.”

* * * * *

* * * * *

System manager(s) and address:

Delete entry and replace with “Deputy Chief of Staff, G-1, 300 Army Pentagon, Washington, DC 20310-0300'

* * * * *

Record source categories:

Add to entry: “and Defense Enrollment Eligibility Reporting System (DEERS) database.”

* * * * *

A0215-1 DAPE

System name:

Library Borrowers'/Users' Profile Files

System location:

Libraries on Army installations and activities. Official mailing addresses of installations and activities are published as an appendix to the Army's compilation of systems of records notices.

Categories of individuals covered by the system:

Authorized users of Army library facilities.

Categories of records in the system:

Name, address, Social Security Number, and telephone number rank, date of birth, and email address.

Authority for maintenance of the system:

5 U.S.C. 301, Departmental Regulations and E.O. 9397 (SSN), 10 U.S.C. 3013, Secretary of the Army; Pub. L. 106-554, Children's Internet Protection Act; AR 215-1, Morale, Welfare, and Recreation Activities and Nonappropriated Fund Instrumentalities.

Purpose(s):

To identify individuals authorized to borrow library materials; to ensure that all library property is returned and individual's account is cleared, and to provide librarian useful information for selecting, ordering, and meeting user requirements. To comply with the Children's Internet Protection Act and to provide authentication for borrowed electronic resources (e.g., e-books, e-journals).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and practices for storing, retrieving, accessing, retaining, and disposing of records in the system:

Storage:

Paper in file folders; card files; and electronic storage media.

Retrievability:

By user's surname, Social Security Number, and/or residence.

Safeguards:

Information is maintained in areas accessible only to authorized persons who have official need therefore. Libraries are secured during non-duty hours.

Retention and disposal:

Records are destroyed when no longer needed to obtain and/or control library materials.

System manager(s) and address:

Deputy Chief of Staff, G-1, 300 Army Pentagon, Washington, DC 20310-0300.

Notification procedure:

Individuals seeking to determine whether information about themselves is contained in this system should address written inquiries to the specific installation library that provided services. Official mailing addresses are published as an appendix to the Army's compilation of systems of records notices.

For verification purposes, individuals should provide full name, period in which a user has or had an account, and any other information that would assist in locating applicable records.

Record access procedures:

Individuals seeking access to information about themselves contained in this system should address written inquiries to the specific installation library that provided services. Official mailing addresses are published as an appendix to the Army's compilation of systems of records notices.

For verification purposes, individuals should provide full name, period in which a user has or had an account, and any other information that would assist in locating applicable records.

Contesting record procedures:

The Army's rules for accessing records, and for contesting contents and appealing initial agency determinations are published in the Army Regulation 340-21; 32 CFR part 505; or may be obtained from the system manager.

Record source categories:

From the individual and Defense Enrollment Eligibility Reporting System (DEERS) database.

Exemptions claimed for the system:

None.

[FR Doc. 05-15357 Filed 8-2-05; 8:45 am]

BILLING CODE 5001-06-P